DEPARTMENT OF DEFENSE

GENERAL SERVICES ADMINISTRATION

NATIONAL AERONAUTICS AND SPACE ADMINISTRATION

48 CFR Part 52

[FAC 2005-72; FAR Case 2013-021; Correction; Docket No. 2013-0021; Sequence No. 1]

Federal Acquisition Regulation; Technical Amendments

AGENCY: Department of Defense (DoD), General Services Administration (GSA), and National Aeronautics and Space Administration (NASA).

ACTION: Final rule.

SUMMARY: This document makes amendments to the Federal Acquisition Regulation (FAR) in order to make editorial changes.

DATES: Effective: January 29, 2014.

FOR FURTHER INFORMATION CONTACT: The Regulatory Secretariat Division (MVCB), 1800 F Street NW., 2nd Floor, Washington, DC 20405, 202-501-4755, for information pertaining to status or publication schedules. Please cite FAC 2005-72, Technical Amendments.

SUPPLEMENTARY INFORMATION: In order to update certain elements in 48 CFR Part 52, this document makes editorial changes to the FAR.

List of Subject in 48 CFR Part 52

Government procurement.

Dated: January 23, 2014.
William Clark,
Acting Director, Office of Government-wide Acquisition Policy, Office of Acquisition Policy, Office of Government-wide Policy.

Therefore, DoD, GSA, and NASA amend 48 CFR part 52 as set forth below:

PART 52—SOLICITATION PORVISIONS AND CONTRACT CLAUSES

1. The authority citation for 48 CFR part 52 continues to read as follows:

Authority: 40 U.S.C. 121(c); 10 U.S.C. chapter 137; and 51 U.S.C. 20113.

52.204-8 [Amended]

2. Remove from the clause heading “(DEC 2013)” and add “(JAN 2014)” in its place.

52.212-5 [Amended]

3. Remove from the clause heading “(DEC 2013)” and add “(JAN 2014)” in its place; and remove from paragraph (b)(27) “(DEC 2013) ERT Abbreviated Month and Year of Publication in the Federal Register])” and add “(JAN 2014)” in its place.

52.213-4 [Amended]

4. Remove from the clause heading and paragraph (b)(1)(ii) “(DEC 2013)” and add “(JAN 2014)” in its place.

52.222-19 [Amended]

5. Remove from the clause heading “(DEC 2013)” and add “(JAN 2014)” in its place.

[FR Doc. 2014-01643 Filed 1-28-14; 8:45 am]

BILLING CODE 6820-EP-P